DEPARTMENT OF ENERGY

Federal Energy Regulatory Commission

[Docket Nos. RM01-12-000, RT02-1-000, EL02-9-000]

Arizona Public Service Company, El Paso Electric Company, Public Service Company of New Mexico, Tucson Electric Power Company, WestConnect RTO, LLC, Remedying Undue Discrimination Through Open Access Transmission Service and Standard Electricity Market Design; Notice of Technical Conference

September 12, 2003.

As announced in the Notice of Technical Conference issued on August 7, 2003, a technical conference will be held on September 24, 2003, to discuss with states and market participants in the WestConnect region the timetables for addressing wholesale power market design issues and to explore ways to provide flexibility the region may need to meet the requirements of the final rule in this proceeding. Members of the Commission will attend and participate in the discussion.

The conference will focus on the issues identified in the agenda, which is appended to this notice as Attachment A. However, participants/stakeholders may present their views on other important issues that relate to the development of the Wholesale Power Market Platform.

The conference will begin at 10 a.m. and will adjourn at about 4 p.m. Mountain Standard Time at the Pointe Hilton Squaw Peak Resort, 7677 N. 16th Street in Phoenix, Arizona. The conference is open for the public to attend, and registration is not required; however, in-person attendees are asked to register for the conference on-line at http://www.ferc.gov/whats-new/registration/smd_0924-form.asp.

Transcripts of the conference will be immediately available from Ace Reporting Company (202-347-3700 or 1-800-336-6646) for a fee. They will be available for the public on the Commission's eLibrary (FERRIS) seven calendar days after FERC receives the transcript. Additionally, Capitol Connection offers the opportunity to remotely listen to the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Sarah McKinley at (202) 502-8004 or sarah.mckinley@ferc.gov.

Magalie R. Salas,
Secretary.

Appendix A

Agenda

10-10:15 a.m. Opening Remarks

Chairman Pat Wood, Federal Energy Regulatory Commission

Commissioner Nora Brownell, Federal Energy Regulatory Commission

Commissioner William Massey, Federal Energy Regulatory Commission

10:15-11 a.m. State and Regional Issues

Chairman Marc Spitzer, Arizona Corporation Commission

Chairwoman Lynda M. Lovejoy, New Mexico Public Regulation Commission

11-11:30 a.m. WestConnect RTO's Wholesale Power Market Platform Overview

Charles Reinhold, WestConnect Project Manager

11:30-11:45 a.m. wesTTrans, Public Power Initiative—West

David Wiggs, General Manager, Los Angeles Department of Water and Power

11:45-1 p.m. Lunch Break

1-2 p.m.

Transmission Owners Panel

Moderator: Steve Glaser, Senior Vice President, Tucson Electric Power Company

• Steve Wheeler, Senior Vice President, Regulation, System Planning & Operations, Arizona Public Service Company.

• David Areghini, Associate General Manager, Power, Construction and Engineering Services, Salt River Project Agricultural Improvement and Power District.

• Steve Fausett, Senior Vice President, Transmission, Tri-State Generation and Transmission

• Tom Jones, Grand Canyon State Electric Cooperative Association

• Ronald Moulton, Manager, Electric Power Restructuring, Western Area Power Administration, Desert Southwest Regional Office

2-3 p.m. Other Stakeholders Panel

Moderator: Michael M. Grant, Gallagher & Kennedy

• Steve Huhman, Director, Market Design & Regulatory Affairs—West Region, Mirant Inc.

• John Woodley, Morgan Stanley Capital Group, Inc.

• Dennis L. Delaney, K.R. Saline & Associates, PLC, for Arizona Consumer Owned Electric Systems

• Scott Gutting, Energy Strategies, Inc.

• Chris Ellison, American Wind Energy Association

• Steven C. Begay, General Manager, Din, Power Authority

3-4 p.m. Open Discussion

4 p.m. End of Conference

[FR Doc. 03-23814 Filed 9-17-03; 8:45 am]

BILLING CODE 6717-01-P